DEPARTMENT OF JUSTICE

Notice of Lodging of Consent Decree Under the Comprehensive Environmental Response, Compensation and Liability Act

Pursuant to Section 122(d)(2) of the Comprehensive Environmental Response, Compensation and Liability Act, 42 U.S.C. 966(d)(2), and 28 CFR 50.7, notice is hereby given that on March 1, 2000, a proposed Consent Decree in United States v. James E. Nichols, et al. Civil Action No. IP97-2007 C, was lodged with the United States District Court for the Southern District of Indiana for a period of thirty days to facilitate public comment.

This Consent Decree represents a settlement of claims of the United States against Denver Smith and Rex A. Warthen (“Settling Defendants”), for reimbursement of response costs in connection with the Custom Finishing Site (“Site”) pursuant to the Comprehensive Environmental Response, Compensation and Liability Act, 42 U.S.C. 9601 et seq. Under this settlement with the United States, the Settling Defendants will pay $160,000, plus interest, for reimbursement of past response costs in connection with the Custom Finishing Site (“Site”) pursuant to the Comprehensive Environmental Response, Compensation and Liability Act, 42 U.S.C. 9601 et seq.

The Department of Justice will receive for a period of Thirty (30) days from the date of this publication comments relating to the proposed Consent Decree. Comments should be addressed to the Assistant Attorney General for the Environment and Natural Resource Division, Department of Justice, P.O. Box 7611, Ben Franklin Station, Washington, D.C. 20044-7611, and should refer to United States v. James E. Nichols, et al., DOJ No,. 90-11-3-1766.

The Consent Decree may be examined at the Office of the United States Attorney, Southern District of Indiana, U.S. Courthouse, Fifth Floor, 46 East Ohio Street, Indianapolis, IN 46204 (317/226-6333), and at the Region 5 Office of the United States Environmental Protection Agency, 77 West Jackson Boulevard (312/886-6630).

Joel M. Gross,
Chief, Environmental Enforcement Section, Environment and Natural Resources Division.

[FR Doc. 00-6535 Filed 3-15-00; 8:45 am]

BILLING CODE 4410-15-M